CONSUMER PRODUCT SAFETY COMMISSION

Sunshine Act Meeting

AGENCY: Consumer Product Safety Commission.

TIME AND DATE: Wednesday, October 25, 2000, 2:00 p.m.

LOCATION: Room 410, East West Towers, 4330 East West Highway, Bethesda, Maryland.

STATUS: Closed to the Public.

Matter to be Considered:

Compliance Status Report: The staff will brief the Commission on the status of various compliance matters. For a recorded message containing the latest agenda information, call (301) 504-0709.

CONTACT PERSON FOR ADDITIONAL INFORMATION: Sayde E. Dunn, Office of the Secretary, 4330 East West Highway, Bethesda, MD 20207 (301) 504-0800.

Dated: October 12, 2000.
Sayde E. Dunn,
Secretary.

[FR Doc. 00-26782 Filed 10-13-00; 3:03 pm]

BILLING CODE 6355-01-M